DEPARTMENT OF TRANSPORTATION

Federal Aviation Administration

Ninth Meeting: RTCA Tactical Operations Committee (TOC)

AGENCY: Federal Aviation Administration (FAA), U.S. Department of Transportation (DOT).

ACTION: Ninth meeting notice of RTCA Tactical Operations Committee.

SUMMARY: The FAA is issuing this notice to advise the public of the seventh meeting of the RTCA Tactical Operations Committee.

DATES: The meeting will be held May 20th from 11:00 a.m.-1:00 p.m.

ADDRESSES: The meetings will be held at National Business Aviation Association 1200 G Street NW., Suite 1100 Washington DC 20005 (202) 783-9000.

FOR FURTHER INFORMATION CONTACT: The RTCA Secretariat, 1150 18th Street NW., Suite 910, Washington, DC 20036, or by telephone at (202) 833-9339, fax at (202) 833-9434, or Web site at http://www.rtca.org or Trin Mitra, TOC Secretary, tmitra@rtca.org, 202-330-0655.

SUPPLEMENTARY INFORMATION: Pursuant to section 10(a) (2) of the Federal Advisory Committee Act (Pub. L. 92-463, 5 U.S.C., App.), notice is hereby given for a meeting of the RTCA Tactical Operations Committee. The agenda will include the following:

May 20th

• Opening of Meeting/Introduction of TOC Members—Co Chairs Jim Bowman and Dale Wright

• Official Statement of Designated Federal Official—Elizabeth Ray

• Approval of February 5, 2015 Meeting Summary

• Recommendation from GPS Adjacent Band Compatibility Task Group: Feedback on Exclusion Zones—Bob Lamond and Paul McDuffee

• Briefing from FAA on National Special Activity Airspace Program (NSAAP)—Rob Hunt

• Review Terms of Reference for Airport Construction Task and National Procedures Assessment Initiative Task

• Updates from Ongoing Tasks

• Anticipated Issues for TOC consideration and action at the next meeting

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 15, 2015.
Mohannad Dawoud,
Management Analyst, NextGen, Program Oversight and Administration, Federal Aviation Administration.

[FR Doc. 2015-09076 Filed 4-20-15; 8:45 am]

BILLING CODE 4910-13-P